DEPARTMENT OF EDUCATION

Office of Special Education and Rehabilitative Services; List of Correspondence

AGENCY: Department of Education.

ACTION: List of Correspondence from October 1, 2007 through December 31, 2007.

SUMMARY: The Secretary is publishing the following list pursuant to section 607(f) of the Individuals with Disabilities Education Act, (IDEA). Under section 607(f) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from October 1, 2007 through December 31, 2007. Included on the list are those letters that contain interpretations of the requirements of IDEA and its implementing regulations, as well as letters and other documents that the Department believes will assist the public in understanding the requirements of the law and its regulations. The date of and topic addressed by each letter are identified, and summary information is also provided, as appropriate. To protect the privacy interests of the individual or individuals involved, personally identifiable information has been deleted, as appropriate.

Part A—General Provisions

Section 602—Definitions

Topic Addressed: Child With a Disability

• Letter dated November 28, 2007 to individual (personally identifiable information redacted), regarding criteria for making eligibility determinations under Part B of IDEA.

Part B—Assistance for Education of All Children With Disabilities

Section 612—State Eligibility

Topic Addressed: Child Find

• Letter dated December 21, 2007 to Texas Education Agency General Counsel David Anderson, Esq., clarifying that a State has no child find obligations under Part B of IDEA to children housed in a U.S. Immigration and Customs Enforcement residential facility.

Topic Addressed: Least Restrictive Environment

• Letter dated November 30, 2007 to Chapman Management Group member Tom Trigg, clarifying the placement requirements in Part B of IDEA.

Topic Addressed: Methods of Ensuring Services

• Letter dated December 20, 2007 to Indiana Department of Education Medicaid Liaison John Hill, clarifying whether school-based Medicaid billing is optional or required under IDEA.

Topic Addressed: Personnel Qualifications

• Letter dated November 7, 2007 to Mountain Plains Regional Resource Center Director Dr. John Copenhaver, clarifying the relationship between the requirements regarding highly qualified teachers and the provision of extended school year services.

Topic Addressed: Prohibition on Mandatory Medication

• Letter dated October 22, 2007 to U.S. Senator James M. Inhofe regarding the application and implementation of the statutory prohibition on mandatory medication.

Section 614—Evaluations, Eligibility Determinations, Individualized Education Programs, and Educational Placements

Topic Addressed: Evaluations, Parental Consent, and Reevaluations

• Letter dated October 19, 2007 to Mountain Plains Regional Resource Center Director Dr. John Copenhaver, clarifying the application of the requirements for parent consent for initial evaluations when a response to intervention process is used for evaluating children with disabilities.

• Letter dated October 19, 2007 to Bowling Green State University Special Needs Assistant Brigitte Green-Churchwell, explaining that an evaluation under Part B of IDEA is not required before terminating a child's eligibility due to graduation from secondary school with a regular diploma or due to exceeding the age of eligibility for a free appropriate public education under State law.

Section 615—Procedural Safeguards

Topic Addressed: Independent Educational Evaluations

• Letter dated December 21, 2007 to California Attorney Nancy J. LoDolce, clarifying whether age and grade level scores, along with recommendations pertaining to specific methodologies and/or use of materials, can be included in evaluations conducted by independent educational evaluators.

Topic Addressed: Procedural Safeguards Notice

• Letter dated November 30, 2007 to Texas Education Agency Special Programs Director Kathy Clayton, regarding a State's obligation to communicate to parents the information contained in the procedural safeguards notice under Part B of IDEA.

• Letter dated November 14, 2007, to Virginia Assistant Superintendent for Special Education and Student Services H. Douglas Cox, regarding a revision to the procedural safeguards notice model form developed by the Office of Special Education Programs.

Topic Addressed: Impartial Due Process Hearing

• Letter dated October 25, 2007 to Advocacy Center for Persons with Disabilities Education Team Manager Robert Jacobs, clarifying whether a State educational agency (SEA) may contract with another agency to hold due process hearings for the SEA and the applicable appeals process.

• Letter dated December 12, 2007 to Connecticut Attorney David Shaw, regarding State rules for hearing officer review of negotiated settlement agreements reached outside of mediation or the resolution process and enforcement of these settlement agreements.

Part C—Infants and Toddlers With Disabilities

Section 635—Requirements for a Statewide System

Topic Addressed: Complaint Resolution

• Letter dated November 28, 2007 to Connecticut Attorney Lawrence W. Berliner, regarding Part C complaint resolution procedures and clarifying that the current Part C regulations do not give an early intervention services provider an opportunity to respond to a complaint.

Other Letters That Do Not Interpret Idea but May Be of Interest to Readers

Topic Addressed: Accelerated Programs

• Dear Colleague Letter dated December 26, 2007 from the Department's Office for Civil Rights Assistant Secretary Stephanie Monroe, regarding issues in the enrollment of students with disabilities in accelerated programs such as Advanced Placement and International Baccalaureate classes or programs.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: March 12, 2008.
Tracy R. Justesen,
Assistant Secretary for Special Education and Rehabilitative Services.

[FR Doc. E8-5462 Filed 3-17-08; 8:45 am]

BILLING CODE 4000-01-P